DEPARTMENT OF COMMERCE

International Trade Administration

Trade Mission Statement

AGENCY: International Trade Administration, Department of Commerce.

ACTION: Notice.

Mission Statement

Renewable Energy and Alternative Fuels Mission to Europe. September 10-19, 2007.

Mission Description

The United States Department of Commerce, International Trade Administration, U.S. and Foreign Commercial Service will organize a Renewable Energy and Alternative Fuels Trade Mission to Germany, Hungary, the Slovak Republic, the Czech Republic and Poland, September 10-19, 2007. This event offers a timely and cost-effective means for U.S. firms to enter promising markets for renewable energies equipment, technology and services. Target sectors holding high potential for U.S. exporters include biomass, biofuels, waste-to-energy, hydropower, wind, geothermal, solar and clean coal. During the Munich, Germany stop, the program will include a country briefing, a European Union-wide perspective on renewable energy, a reception for business and government contacts hosted by the U.S. Consulate, and one-on-one appointments with prospective business contacts. Each of the stops in Central Europe will include a country briefing, reception for business and government contacts hosted by the U.S. Ambassador or other high-ranking embassy official, one-on-one appointments with prospective business contacts, and high-level meetings with government officials and business leaders.

Commercial Setting

Germany: The German economy is the world's third largest and, after the expansion of the EU, accounts for nearly one-fifth of European Union GDP. Germany is the United States' largest European trading partner and is the sixth largest market for U.S. exports. German business and consumer confidence is increasing rapidly as Germany continues to build upon last year's 2.7 percent increase in GDP. Germany is once again becoming Europe's economic engine with an expected GDP growth rate this year of approximately 2.3-2.8 percent. Since EU accession 2004, Hungary, the Slovak Republic and Czech Republic and Poland have experienced robust rates of economic growth, dramatically increased inflows of foreign direct investment and enhanced access to EU development funds. The need to reduce dependence on non-EU sources and the ambitious target set by the EU for renewables to comprise 20% of general energy consumption by 2020 are driving a significant demand for new equipment, technology and services. These developments have created robust business opportunities for U.S. firms operating within these sectors. Germany's power plant capacity is currently roughly 11,000 MW, which is unlikely to increase as new power plants under construction or being planned will only replace older, existing plants. However, Germany's energy supply is still based mainly on fossil resources. The finiteness of these resources and negative effects on the environment necessitate increased development of renewable energies to ensure future energy supply. Due to rising prices of fossil products, and to environmental protection measures mandated by Germany's federal government and the EU, the use of regenerative energy in Germany has increased considerably in recent years and is expected to increase further, creating areas of opportunities for companies offering technology and know-how for this market segment. Germany's energy industry is one of the largest investors in the country with 80 billion euros ($106.5 billion USD) to be invested in networks and power plants by the end of 2020. However, as the world's sixth largest producer of CO2 emissions, Germany is trying to slash its output of greenhouse gases and is planning to have renewable energy sources supply a quarter of its energy needs by 2020. Currently, renewable energy sources supply 12% of Germany's energy, primarily from wind, water, biomass and photovoltaics. By 2010, experts predict an increase in sales for the whole renewable energy sector of 45 billion euros ($60 billion USD) with an export share of 16 billion euros ($21.3 billion USD).

Hungary: Hungary relies heavily on oil and gas from Russia, together with one nuclear plant, for most of its energy needs. Future diversity is key, and renewable sources are a priority. With power demand increasing 2% yearly, Hungary needs another 6,300 MW of capacity over 10-15 years. The renewable portion is expected to reach 600 MW by 2020, from 170 MW now. U.S. know-how can help Hungary meet its goals.

Slovak Republic: In 2005, nuclear plants provided almost 60% of the country's electricity. By the end of 2008, that number will decline to 30% as older reactors are taken out of service. The Slovak government will need to replace the reactors. Almost 90% of all fossil fuels are being imported, largely from Russia. Domestic coal and natural gas contribute only 2% of present energy needs. Renewable energy sources presently account for less than 3% of the total. The government wants to increase that number to 24% by 2020. U.S. technology is well regarded in Slovakia, creating significant business opportunities for American firms in the renewable energy sector.

Czech Republic: The Czech Republic is unique in the region as an exporter of energy, due to its central location in the heart of the European manufacturing belt, low production costs, and EU membership. Last year the country exported 29% of its generated energy, mainly to Germany, Austria, and Slovakia. The Czech energy sector is poised for dramatic changes. The current electricity generation system still relies on the country's rapidly diminishing reserves of brown coal, though nuclear energy also plays a key role. Major retrofit projects for these coal plants drive demand for clean coal technology. Another key trend is the increased focus on renewable energy, spurred by EU accession. Renewable sources should supply 8% of the Czech energy supply by 2010; currently, these sources supply only 4.8%.

Poland: Currently Poland generates less than 3% of its energy from renewable sources, whereas mandated targets require a 10.4% level by 2010. Implementation of the targets will cut greenhouse gases by 18 million tons and experts estimate $3.27 billion in new investments in renewable energy projects in coming years. Financing for these investments will come from state and local government budgets, various domestic and multilateral environmental funds, EU structural funds and individual investors. American products and technologies are well regarded and U.S. companies have found Poland to be a very receptive market.

Mission Goals: The goal of the Renewable Energy and Alternative Fuels Trade Mission to Europe is to facilitate first-hand market exposure, access to government decision makers, and meetings with private-sector contacts, including potential agents, distributors, end-users and other business partners.

Mission Scenario: In each of the stops, participants will attend country briefings, a business reception hosted by the U.S. Ambassador or U.S. Consulate, and one-on-one meetings with prospective business contacts. In Germany, participants will also receive a European Union-wide perspective on renewable energy.

Mission Timetable: Depart U.S. on Saturday, September 8, for Germany or Sunday, September 9, for Budapest. Unless otherwise noted below, participants are responsible for making their own travel arrangements.

Monday, September 10, Germany:

(1) Country briefing: European Union-wide perspective on renewable energy.

(2) Reception for business and government contacts hosted by the U.S. Consulate.

(3) Matchmaking appointments.

Tuesday, September 11, Budapest:

(1) Last possible day for participants to arrive in Budapest

(2) Country/Industry Briefing. Wednesday, September 12, Budapest:

(1) Matchmaking appointments.

(2) Reception.

Thursday, September 13, Budapest—Bratislava:

(1) Commercial Service will arrange to transport mission participants from Budapest to Bratislava. Bus transportation costs are included in mission participation fee.

(2) Participants arrive in Bratislava.

(3) Country/Industry Briefing.

(4) Reception at Ambassador's residence.

Friday, September 14, Bratislava:

(1) Matchmaking appointments.

Friday, September 14—Sunday, September 16:

After the conclusion of the program in Bratislava, participants may decide individually whether to remain in Bratislava or to travel on to Prague. All participants must arrive in Prague by the evening of Sunday, September 16.

Monday, September 17, Prague:

(1) Country/Industry Briefing.

(2) Matchmaking appointments.

(3) Reception.

Tuesday, September 18, Prague—Warsaw.

(1) Participants depart Prague for Warsaw.

(2) Country/Industry Briefing.

Wednesday, September 19, Warsaw:

(1) Matchmaking appointments.

(2) Reception at Ambassador's residence.

Thursday, September 20: Depart for United States.

Criteria for Participation and Selection

• Relevance of a company's business line to mission goals.

• Timeliness of company's signed application and participation agreement (including a participation fee of $4,600 for the five-stop mission).

• Company's potential for business in Central Europe.

• Provision of adequate information on company's products and/or services, and company's primary market objectives to facilitate appropriate matching with potential business partners.

• Certification that the company meets Departmental guidelines for participation. A company's products or services must be either produced in the United States, or, if not, marketed under the name of a U.S. firm and have at least 51 percent U.S. content of the value of the finished product or service.

Any partisan political activities (including political contributions) of an applicant are entirely irrelevant to the selection process. Mission recruitment will be conducted in an open and public manner, including publication in the Federal Register, posting on the Commerce Department trade mission calendar— http://www.ita.doc.gov/doctm/tmcal.html—and other Internet Web sites, press releases to the general and trade media, direct mail and broadcast fax, notices by industry trade associations and other multiplier groups, and at industry meetings, symposia, conferences, trade shows.

Recruitment for the mission will begin immediately and conclude no later than July 31, 2007. The participation fee for the event will be $4,600 per company for the five-stop mission. The participation fee does not include most meals, travel or lodging costs. Up to 10 companies will be accepted on a first-come, first-served basis, and applications received after the closing date will be considered only if space and scheduling constraints permit.

Contact Information: Glen Roberts, Director, U.S. Commercial Service Export Assistance Center, 2100 Chester Ave., 1st Floor Suite 166, Bakersfield, CA 93301, Tel: (661) 637-0136, fax: (661) 637-0156, glen.roberts@mail.doc.gov.

Nancy Hesser,
Manager, Commercial Service Trade Missions, Trade Promotion Programs, Office of Domestic Operations, U.S. and Foreign Commercial Service, Washington, DC 20230, (202) 482-34663, nancy.hesser@mail.doc.gov.

[FR Doc. 07-3463 Filed 7-13-07; 8:45 am]

BILLING CODE 3510-25-M